DEPARTMENT OF TRANSPORTATION

Federal Aviation Administration

14 CFR Part 71

[Airspace Docket No. 02-ACE-12]

Establishment of Class E Airspace; Moundridge, KS; Correction

AGENCY: Federal Aviation Administration (FAA), DOT.

ACTION: Final rule; correction.

SUMMARY: This action corrects a final rule that was published in the Federal Register on Wednesday, March 5, 2003, (68 FR 10369). The final rule established Class E airspace at Moundridge, KS.

EFFECTIVE DATE: 0901 UTC, July 10, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 03-5130, published on Wednesday, March 5, 2003, (68 FR 10369), established Class E airspace at Moundridge, KS. The Class E airspace was defined with reference to Moundridge Municipal Airport, KS. The published coordinates of Moundridge Municipal Airport, KS were incorrect.

Accordingly, pursuant to the authority delegated to me, the Class E airspace at Moundridge, KS, as published in the Federal Register on Wednesday, March 5, 2003 (68 FR 10369), is corrected as follows:

§ 71.1 [Corrected]

On page 10370, Column 1, second paragraph, third line change “(Lat. 38°12′25″ N., Long. 97°30′11″ W.)” to read “(Lat. 38°12′33″ N., Long. 97°30′10″ W.).”

Issued in Kansas City, MO, on March 31, 2003.
Herman J. Lyons, Jr.
Manager, Air Traffic Division, Central Region.

[FR Doc. 03-9180 Filed 4-14-03; 8:45 am]

BILLING CODE 4910-13-M